DEPARTMENT OF HEALTH AND HUMAN SERVICES

Centers for Disease Control and Prevention

Fees for Sanitation Inspections of Cruise Ships

AGENCY: Centers for Disease Control and Prevention (CDC), Department of Health and Human Services (HHS).

ACTION: General notice.

SUMMARY: In this notice, the Centers for Disease Control and Prevention (CDC), located within the Department of Health and Human Services (HHS), announces fees for vessel sanitation inspections for Fiscal Year (FY) 2013. These inspections are conducted by HHS/CDC's Vessel Sanitation Program (VSP). VSP helps the cruise line industry fulfill its responsibility for developing and implementing comprehensive sanitation programs to minimize the risk for acute gastroenteritis. Every vessel that has a foreign itinerary and carries 13 or more passengers is subject to twice-yearly inspections and, when necessary, re-inspection.

DATES: These fees are effective October 1, 2012 through September 30, 2013.

FOR FURTHER INFORMATION CONTACT: CAPT Jaret T. Ames, Chief, Vessel Sanitation Program, National Center for Environmental Health, Centers for Disease Control and Prevention, 4770 Buford Highway NE., MS-F-59, Atlanta, Georgia 30341-3717, phone: 800-323-2132 or 954-356-6650, email: vsp@cdc.gov.

SUPPLEMENTARY INFORMATION:

Purpose and Background

HHS/CDC established the Vessel Sanitation Program (VSP) in the 1970s as a cooperative activity with the cruise ship industry. VSP helps the cruise ship industry prevent and control the introduction, transmission, and spread of gastrointestinal illnesses on cruise ships. VSP operates under the authority of the Public Health Service Act (42 U.S.C. 264, “Control of Communicable Diseases”). Regulations found at 42 CFR 71.41 (Foreign Quarantine—Requirements Upon Arrival at U.S. Ports: Sanitary Inspection; General Provisions) state that carriers arriving at U.S. ports from foreign areas are subject to sanitary inspections to determine whether rodent, insect, or other vermin infestations exist, contaminated food or water, or other sanitary conditions requiring measures for the prevention of the introduction, transmission, or spread of communicable diseases are present.

The fee schedule for sanitation inspections of passenger cruise ships by VSP was first published in the Federal Register on November 24, 1987 (52 FR 45019). HHS/CDC began collecting fees on March 1, 1988. This notice announces fees that are effective for FY 2013, beginning on October 1, 2012 through September 30, 2013.

The following formula is used to determine the fees:

The average cost per inspection is multiplied by size and cost factors to determine the fee for vessels in each size category. The size and cost factors were established in the fee schedule published in the Federal Register on July 17, 1987 (52 FR 27060). The fee schedule was most recently published in the Federal Register on March 2, 2012 (77 FR 12843). The current size and cost factors are presented in Appendix A.

Fee

The fee schedule (Appendix A) will be effective October 1, 2012 through September 30, 2013. The fee schedule has not changed since October 1, 2006. The cruise ship industry should be aware that if travel expenses for VSP increase, the fees may need to be adjusted before September 30, 2013; travel expenses constitute a sizable portion of VSP's costs. If a fee adjustment is necessary, HHS/CDC will publish a notice 30 days before the effective date.

Applicability

The fees will apply to all passenger cruise vessels for which inspections are conducted as part of HHS/CDC's VSP.

Dated: August 14, 2012.
Tanja Popovic,
Deputy Associate Director for Science, Centers for Disease Control and Prevention.

Appendix A

Size/Cost Factor
Vessel size | GRT ¹ | Approximate cost per GRT (in U.S. dollars)
Extra Small | <3,001 | 0.25
Small | 3,001-15,000 | 0.50
Medium | 15,001-30,000 | 1.00
Large | 30,001-60,000 | 1.50
Extra Large | 60,000-120,000 | 2.00
Mega | >120,001 | 3.00

Fee Schedule
Vessel size | GRT ¹ | Fee (in U.S. dollars)
Extra Small | <3,000 | 1,300
Small | 3,001-15,000 | 2,600
Medium | 15,001-30,000 | 5,200
Large | 30,001-60,000 | 7,800
Extra Large | 60,001-120,000 | 10,400
Mega | >120,001 | 15,600
¹ Gross register tonnage in cubic feet, as shown in Lloyd's Register of Shipping. Inspections and re-inspections involve the same procedures, require the same amount of time, and are therefore charged at the same rates.

[FR Doc. 2012-20483 Filed 8-20-12; 8:45 am]

BILLING CODE 4163-18-P